DEPARTMENT OF DEFENSE

Defense Acquisition Regulations System

[Docket DARS-2016-0046; OMB Control Number 0704-0359]

Submission for OMB Review; Comment Request

ACTION: Notice.

SUMMARY: The Defense Acquisition Regulations System has submitted to OMB for clearance, the following proposal for collection of information under the provisions of the Paperwork Reduction Act.

DATES: Consideration will be given to all comments received by April 26, 2017.

SUPPLEMENTARY INFORMATION:

Title and OMB Number: DFARS Part 232, Contract Financing, and Related Clauses at DFARS 252.232; OMB Control Number 0704-0359.

Type of Request: Revision of a currently approved collection.

Number of Respondents: 1,800.

Responses per Respondent: 1.

Annual Responses: 1,800.

Average Burden per Response: 1 hour.

Annual Burden Hours: 1,800.

Needs and Uses: This requirement provides for the collection of information related to contract financing under DoD contracts.

a. DFARS 252.232-7007, Limitation of Government's Obligation. The Government will use this information to decide whether to allot additional funds for continued performance under the contract or to terminate the contract for convenience. If after such notification additional funds are not allotted by the date identified in the contractor's notification, or by an agreed substitute date, the contracting officer will terminate any items for which additional funds have not been allotted, pursuant to the clause of this contract entitled “Termination for Convenience of the Government.”

b. DFARS subpart 232.10, Performance-Based Payments. If a contractor desires to structure contract financing using performance-based payments, the contractor shall submit a proposed performance-based payments schedule which includes all performance-based payments events, completion criteria and event values along with the expected expenditure profile. The contracting officer will use this information to populate the Performance Based Payments analysis tool and negotiate the performance-based payment event schedule. This analysis tool is a cash-flow model used for evaluating alternative financing arrangements and to calculate improved financing opportunities that will provide benefit to both industry (prime and subcontractor level) and the taxpayer.

Affected Public: Businesses or other for-profit and not-for profit institutions.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Mr. Frederick C. Licari.

Written requests for copies of the information collection proposal should be sent to Mr. Licari at: Information Collections Program, WHS/ESD Office of Information Management, 4800 Mark Center Drive, 3rd Floor, East Tower, Suite 03F09, Alexandria, VA 22350-3100.

Jennifer L. Hawes,
Editor, Defense Acquisition Regulations System.

[FR Doc. 2017-06000 Filed 3-24-17; 8:45 am]

BILLING CODE 5001-06-P